DEPARTMENT OF THE INTERIOR

National Park Service

[NPS-WASO-D-COS-POL-28573; PPWODIREP0; PPMVSCS1Y.Y00000]

Notice of the September 24th, 2019, Meeting of the Made in America Outdoor Recreation Advisory Committee

AGENCY: National Park Service, Interior.

ACTION: Meeting notice.

SUMMARY: In accordance with the Federal Advisory Committee Act of 1972, the National Park Service is hereby giving notice that the Made in America Outdoor Recreation Advisory Committee (Committee) will meet as noted below.

DATES: The meeting will be held on Tuesday, September 24, 2019, from 9:00 a.m. to 5:00 p.m., EST.

ADDRESSES: The meeting will be conducted in Room 7061 of the Stewart Lee Udall Department of the Interior Building, 1849 C Street NW, Washington, DC 20240.

FOR FURTHER INFORMATION CONTACT: Joshua Winchell, Designated Federal Officer for the Made in America Outdoor Recreation Advisory Committee, Office of Policy, National Park Service, 1849 C Street NW, Mail Stop 2659, Washington, DC 20240, telephone number 202-513-7053, or email itmd_joshuawinchell@nps.gov.

SUPPLEMENTARY INFORMATION: The Committee has been established by authority of the Secretary of the Interior (Secretary) under 54 U.S.C. 100906, and is regulated by the Federal Advisory Committee Act.

The Committee will convene its meeting at 9:00 a.m., and adjourn at 5:00 p.m. The Committee will meet to discuss topics related to public-private partnerships across all public lands, expanding access to and improving infrastructure on public lands and waterways, improving recreational visitor experiences, developing and deploying infrastructure improvements, and other business. The meeting agenda will be posted to the committee's website at: https://www.nps.gov/orgs/1892/made-in-america-rac.htm.

The meeting is open to the public, but preregistration is required due to security requirements in the building and limited seating. Any individual who wishes to attend the meeting should register via email at Joshua Winchell itmd_joshuawinchell@nps.gov, or telephone (202) 513-7053. Interested persons may choose to make a public comment at the meeting during the designated time for this purpose. Members of the public may also choose to submit written comments by mailing them to Joshua Winchell, Designated Federal Officer for the Made in America Outdoor Recreation Advisory Committee, Office of Policy, National Park Service, 1849 C Street NW, MS 2659, Washington, DC 20240, or via email at itmd_joshuawinchell@nps.gov. Individuals who plan to attend and need special assistance, such as sign language interpretation, should contact the NPS as provided above.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2019-19299 Filed 9-5-19; 8:45 am]

BILLING CODE 4312-52-P